DEPARTMENT OF THE TREASURY

Submission for OMB Review; Comment Request

September 12, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 19, 2000 to be assured of consideration.

Financial Crimes Enforcement Network (FinCEN)

OMB Number: 1506-0003.

Form Number: IRS Form 8852.

Type of Review: Extension.

Title: Currency Transaction Report by Casinos—Nevada.

Description: Nevada casinos file Form 8852 for current transactions in excess of $10,000 a day pursuant to Title 31. Form 8852 is used by criminal investigators and regulatory enforcement authorities during the course of investigations involving financial crimes. Form 8852 was created because some of the transactions reportable on Form 8362 are prohibited by Nevada State Regulation 6A.

Respondents: Individuals or households.

Estimated Number of Respondents/Recordkeepers: 110.

Estimated Burden Hours Per Respondent/Recordkeeper: 19 minutes.

Frequency of Response: Other (as required).

Estimated Total Reporting/Recordkeeping Burden: 4,000,000 hours.

Clearance Officer: Lois K. Holland (202) 622-1563, Departmental Offices, Room 2110, 1425 New York Avenue, N.W., Washington, DC 20220.

OMB Reviewer: Alexander T. Hunt, (202) 395-7860, Office of Management and Budget, Room 10202, New Executive Office Building, Washington, DC 20503.

Lois K. Holland,
Departmental Reports Management Officer.

[FR Doc. 00-23966 Filed 9-18-00; 8:45 am]

BILLING CODE 4810-31-P